OFFICE OF THE UNITED STATES TRADE REPRESENTATIVE

[Docket Number USTR-2022-0003]

Request for Comments and Notice of Meetings of the United States-Colombia Environmental Affairs Council and Environmental Cooperation Commission

AGENCY: Office of the United States Trade Representative.

ACTION: Notice and request for comments.

SUMMARY: The parties to the United States-Colombia Trade Promotion Agreement (TPA) and the United States-Colombia Environmental Cooperation Agreement (ECA) intend to hold meetings of the Environmental Affairs Council (Council) and Environmental Cooperation Commission (Commission). The Office of the United States Trade Representative (USTR) and the U.S. Department of State (State) invite public participation in a Council meeting and written comments on issues that should be addressed.

DATES:

March 30, 2022: Deadline for submission of written comments and notices of intent to attend the public meeting.

April 7, 2022: The Council and Commission will meet in a closed government-to-government session. The Council also will convene a public session. The time and location of the public meeting will be available on the USTR and State websites.

ADDRESSES: We strongly prefers electronic submissions made through the Federal eRulemaking Portal: https://www.regulations.gov (Regulations.gov), using Docket Number USTR-2022-0003. Follow the instructions for submitting comments in `Requirements for Submissions' below. For alternatives to on-line submissions, please contact Katy Sater at mary.c.sater@ustr.eop.gov, (202) 395-9522, or Sarah Flores at FloresSC@state.gov, (202) 647-0156.

FOR FURTHER INFORMATION CONTACT: Katy Sater, Director for Environment and Natural Resources, USTR, mary.c.sater@ustr.eop.gov, (202) 395-9522, or Sarah Flores, Bureau of Oceans and International Environmental and Scientific Affairs, Office of Environmental Quality and Transboundary Issues, State, FloresSC@state.gov, (202) 647-0156.

SUPPLEMENTARY INFORMATION:

1. Background

On April 7, 2022, the Council and Commission will meet in a closed government-to-government session to (1) review implementation of Chapter 18 (Environment) of the TPA, and discuss how the parties are meeting their environment chapter obligations; (2) highlight environmental enforcement and achievements and share related lessons learned and best practices; (3) review the environmental cooperation program; and (4) receive a report from the Secretariat for Environmental Enforcement Matters established under the TPA.

Also on April 7, 2022, the Council invites all interested persons to attend a public session on Chapter 18 implementation. The location will be shared on the USTR and State websites: https://ustr.gov/issue-areas/environment/bilateral-and-regional-trade-agreements and https://www.state.gov/key-topics-office-of-environmental-quality-and-transboundary-issues/current-trade-agreements-with-environmental-chapters/. At the public session, the Council will welcome questions, input and information about challenges and achievements in implementation of the Environment Chapter obligations and the related ECA. Attendees must comply with any public health protocols required by local authorities.

II. Public Participation

If you would like to attend the public session, please provide your full name, identify any organization or group you represent, and provide contact information such as email address and phone number.

USTR and State invite written comments or suggestions regarding implementation of Chapter 18, the ECA, or topics to be discussed at the public Council meeting. When preparing comments, submitters should refer to Chapter 18 of the TPA and ECA. Documents are available at https://www.state.gov/key-topics-office-of-environmental-quality-and-transboundary-issues/current-trade-agreements-with-environmental-chapters/#colombia and https://ustr.gov/issue-areas/environment/bilateral-and-regional-trade-agreements.

III. Requirements for Submissions

USTR and State invite public comments and suggestions, and notices of intent to attend the public session, by the March 30, 2022 deadline. You can view all comments in Docket Number USTR-2022-0003 on Regulations.gov.

We strongly urge you to make all submissions in English via Regulations.gov, using Docket Number USTR-2022-0003. We will not accept hand-delivered submissions. To make a submission using Regulations.gov, enter Docket Number USTR-2022-0003 in the `search for' field on the home page and click `search.' The site will provide a search results page listing all documents associated with this docket. Find a reference to this notice by selecting `notice' under `document type' in the `filter results by' section on the left side of the screen and click on the link entitled `comment now.' The Regulations.gov website offers the option of providing comments by filling in a `type comment' field or by attaching a document using the `upload file(s)' field. We prefer that you provide submissions in an attached document and note `see attached' in the `type comment' field on the online submission form. At the beginning of the submission, or on the first page (if an attachment) include `U.S.-Colombia TPA EAC/ECC Meeting'. Submissions should not exceed 30 double-spaced, standard letter-size pages in 12-point type, including attachments. Include any data attachments to the submission in the same file as the submission itself, and not as separate files. You will receive a tracking number upon completion of the submission procedure at Regulations.gov. The tracking number is confirmation that Regulations.gov received the submission. Keep the confirmation for your records. We are not able to provide technical assistance for Regulations.gov.

If you are unable to provide submissions as requested, please contact Katy Sater, Director for Environment and Natural Resources, USTR, mary.c.sater@ustr.eop.gov, (202) 395-9522, or Sarah Flores, Bureau of Oceans and International Environmental and Scientific Affairs, Office of Environmental Quality and Transboundary Issues, State, FloresSC@state.gov, (202) 647-0156, in advance of the deadline, to arrange for an alternative method of transmission.

Kelly Milton,
Assistant U.S. Trade Representative for Environment and Natural Resources, Office of the United States Trade Representative.

[FR Doc. 2022-06045 Filed 3-21-22; 8:45 am]

BILLING CODE 3390-F2-P